ENVIRONMENTAL PROTECTION AGENCY

[FRL-9185-6]

Agency Information Collection Activities OMB Responses

AGENCY: Environmental Protection Agency (EPA).

ACTION: Notice.

SUMMARY: This document announces the Office of Management and Budget (OMB) responses to Agency Clearance requests, in compliance with the Paperwork Reduction Act (44 U.S.C. 3501 et seq.). An agency may not conduct or sponsor, and a person is not required to respond to, a collection of information unless it displays a currently valid OMB control number. The OMB control numbers for EPA regulations are listed in 40 CFR part 9 and 48 CFR chapter 15.

FOR FURTHER INFORMATION CONTACT: Rick Westlund (202) 566-1682, or e-mail at westlund.rick@epa.gov and please refer to the appropriate EPA Information Collection Request (ICR) Number.

SUPPLEMENTARY INFORMATION:

OMB Responses to Agency Clearance Requests

OMB Approvals

EPA ICR Number 2333.02; Renewable Fuels Standard (RFS2); 40 CFR part 80, subpart M; was approved on 07/06/2010; OMB Number 2060-0640; expires on 07/31/2013; Approved without change.

EPA ICR Number 1715.12; TSCA Section 402 and Section 404 Training and Certification, Accreditation and Standards for Lead-Based Paint Activities (Opt-out and Recordkeeping Amendments Final Rule); 40 CFR part 745, subpart L; 40 CFR 745.225; was approved on 07/06/2010; OMB Number 2070-0155; expires on 10/31/2011; Approved without change.

EPA ICR Number 0597.10; Tolerance Petitions for Pesticides on Food/Feed Crops and New Inert Ingredients; 40 CFR part 180; was approved on 07/09/2010; OMB Number 2070-0024; expires on 07/31/2013; Approved without change.

EPA ICR Number 1632.03; Standards for Pesticide Containers and Containment; 40 CFR parts 156 and 165; was approved on 07/09/2010; OMB Number 2070-0133; expires on 07/31/2013; Approved without change.

EPA ICR Number 2379.01; Great Lakes Accountability System; was approved on 07/15/2010; OMB Number 2005-0001; expires on 07/31/2013; Approved with change.

EPA ICR Number 0278.10; Notice of Supplemental Distribution of a Registered Pesticide Product; 40 CFR 152.132; was approved on 07/15/2010; OMB Number 2070-0044; expires on 07/31/2013; Approved with change.

EPA ICR Number 2345.02; Control of Emissions from New Marine Compression-Ignition Engines at or Above 30 Liters per Cylinder; 40 CFR parts 80, 85, 86, 94, 1027, 1033, 1039 1042, 1043, 1045, 1048, 1051, 1054, 1060, 1065 and 1068, was approved on 07/18/2010; OMB Number 2060-0641; expires on 07/31/2013; Approved with change.

EPA ICR Number 0877.10; RadNet (Renewal); was approved on 07/19/2010; OMB Number 2060-0015; expires on 07/31/2013; Approved without change.

EPA ICR Number 2366.01; Stormwater Management Including Discharges From Developed Sites Questionnaires; was approved on 07/22/2010; OMB Number 2040-0282; expires on 07/31/2013; Approved with change.

Dated: August 2, 2002.
John Moses,
Director, Collections Strategies Division.

[FR Doc. 2010-19425 Filed 8-5-10; 8:45 am]

BILLING CODE 6560-50-P